DEPARTMENT OF LABOR

Occupational Safety and Health Administration

29 CFR Parts 1911 and 1912

[Docket No. OSHA-2025-0039]

RIN 1218-AD72

Construction Standards—Advisory Committee on Construction Safety and Health; Correction

AGENCY: Occupational Safety and Health Administration (OSHA), Labor.

ACTION: Final rule; Correction

SUMMARY: The Occupational Safety and Health Administration is correcting an error in the docket number listed in its final rule on Construction Standards—Advisory Committee on Construction Safety and Health, which was published in the Federal Register on July 1, 2025 (90 FR 27996).

DATES: Effective July 9, 2025.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance, Occupational Safety and Health Administration; telephone: (202) 693-1950; email: osha.dsg@dol.gov.

Copies of this Federal Register notice: Electronic copies are available at https://www.regulations.gov. This Federal Register notice, as well as news releases and other relevant information, also are available on OSHA's web page at https://www.osha.gov.

SUPPLEMENTARY INFORMATION: In FR Document 2025-12011, page 27996 in the Federal Register of Tuesday, July 1, 2025, make the following correction is made in the document heading. On page 27996, in the third column, in the heading, “[Docket No. OSHA-2025-0040]” is corrected to read “[Docket No. OSHA-2025-0039]”.

Dated: July 3, 2025.
Amanda Laihow,
Acting Assistant Secretary of Labor for Occupational Safety and Health.

[FR Doc. 2025-12776 Filed 7-8-25; 8:45 am]

BILLING CODE 4510-26-P